DEPARTMENT OF AGRICULTURE

Animal and Plant Health Inspection Service

[Docket No. APHIS-2009-0005]

Notice of Determination of the Highly Pathogenic Avian Influenza Subtype H5N1 Status of Hungary

AGENCY: Animal and Plant Health Inspection Service, USDA.

ACTION: Notice.

SUMMARY: We are advising the public of our determination regarding the highly pathogenic avian influenza (HPAI) subtype H5N1 status of Hungary following outbreaks in 2006 and 2007. Based on our evaluation of the animal health status of two counties (Bács-Kiskun and Csongrád) in Hungary, which we made available to the public for review and comment through a previous notice, the Administrator has determined that the importation of live birds, poultry carcasses, parts or products of poultry carcasses, and eggs (other than hatching eggs) of poultry, game birds, and other birds from Hungary presents a low risk of introducing HPAI H5N1 into the United States.

DATES: Effective Date: This determination will be effective on October 9, 2009.

FOR FURTHER INFORMATION CONTACT: Mr. Javier Vargas, Case Manager, Regionalization Evaluation Services Staff, National Center for Import and Export, VS, APHIS, 4700 River Road, Unit 38, Riverdale, MD 20737-1231; (301) 734-0756.

SUPPLEMENTARY INFORMATION:

Background

On June 15, 2009, we published in the Federal Register (74 FR 28217-28218) a notice 1A¹ in which we announced the availability for review and comment of an evaluation of the animal health status of two counties (Bács-Kiskun and Csongrád) in Hungary relative to highly pathogenic avian influenza (HPAI) subtype H5N1. In the evaluation, titled “APHIS' Evaluation of the Status of High Pathogenicity Avian Influenza H5N1 Virus in Hungary” (November 2008), we presented the results of our evaluation of the prevalence of HPAI H5N1 in domestic poultry in the two counties in light of the actions taken by Hungary's Department for Food Chain Safety and Animal Health (DFCSAH) during and since the outbreaks of HPAI H5N1 that occurred in these two counties in 2006 and 2007.

¹ To view the notice and the evaluation, go to http://www.regulations.gov/fdmspublic/component/main?main=DocketDetail&d=APHIS-2009-0005.

Our evaluation concluded that both counties (Bács-Kiskun and Csongrád) had adequate detection and control measures in place at the time of the outbreaks, that they have been able to effectively control and eradicate HPAI H5N1 in their domestic poultry populations since that time, and that Hungary's DFCSAH has control measures in place to rapidly identify, control, and eradicate the disease should it be reintroduced into Hungary in either wild birds or domestic poultry.

In our June 2009 notice we stated that if, after the end of the comment period, we could identify no additional risk factors that would indicate that domestic poultry in Bács-Kiskun and Csongrád Counties continue to be affected with HPAI H5N1, we would conclude that the importation of live birds, poultry carcasses, parts of carcasses, and eggs (other than hatching eggs) of poultry, game birds, or other birds from Hungary presents a low risk of introducing HPAI H5N1 into the United States.

We solicited comments on the notice for 30 days ending on July 15, 2009. We received no comments during the comment period.

Therefore, we are removing our prohibition on the importation of these products from Hungary into the United States. Specifically:

• We are no longer requiring that processed poultry products from Hungary be accompanied by a Veterinary Services import permit and government certification confirming that the products have been treated according to APHIS requirements;

• We are allowing unprocessed poultry products from Hungary to enter the United States in passenger luggage; and

• We are removing restrictions regarding the counties (Bács-Kiskun and Csongrád) in Hungary from which processed poultry products may originate in order to be allowed entry into the United States in passenger luggage.

However, live birds from Bács-Kiskun and Csongrád Counties in Hungary are still subject to the port-of-entry inspections and post-importation quarantines set forth in 9 CFR part 93, unless granted an exemption by the Administrator or destined for diagnostic purposes and accompanied by a limited permit.

Done in Washington, DC, this 18th day of September 2009.
Kevin Shea,
Acting Administrator, Animal and Plant Health Inspection Service.

[FR Doc. E9-23129 Filed 9-23-09; 8:45 am]

BILLING CODE 3410-34-P